DEPARTMENT OF ENERGY

Federal Energy Regulatory Commission

Combined Notice of Filings #1

Take notice that the Commission received the following Complaints and Compliance filings in EL Dockets:

Docket Numbers: EL22-29-000; QF15-850-003.

Applicants: Magnolia Solar, LLC, Magnolia Solar, LLC.

Description: Petition for Enforcement of the Public Utility Regulatory Policies Act of 1978 of Magnolia Solar, LLC.

Filed Date: 2/8/22.

Accession Number: 20220208-5101.

Comment Date: 5 p.m. ET 3/1/22.

Take notice that the Commission received the following electric rate filings:

Docket Numbers: ER22-680-001.

Applicants: Southern California Edison Company.

Description: Tariff Amendment: Revised WDAT Enhancements 2021 to be effective 4/10/2022.

Filed Date: 2/8/22.

Accession Number: 20220208-5067.

Comment Date: 5 p.m. ET 3/1/22.

Docket Numbers: ER22-821-001.

Applicants: Spotlight Power LLC.

Description: Tariff Amendment: Amended Spotlight Power LLC Baseline MBR Tariff & Application to be effective 3/16/2022.

Filed Date: 2/8/22.

Accession Number: 20220208-5060.

Comment Date: 5 p.m. ET 3/1/22.

Docket Numbers: ER22-1001-000.

Applicants: Union Electric Company.

Description: § 205(d) Rate Filing: Joint Ownership Agreement—UE-MJMEUC-Hannibal to be effective 1/1/2022.

Filed Date: 2/8/22.

Accession Number: 20220208-5000.

Comment Date: 5 p.m. ET 3/1/22.

Docket Numbers: ER22-1002-000.

Applicants: PJM Interconnection, L.L.C.

Description: § 205(d) Rate Filing: Original IISA, Service Agreement No. 6327; Queue Nos. AF1-130/AF1-162 to be effective 1/10/2022.

Filed Date: 2/8/22.

Accession Number: 20220208-5026.

Comment Date: 5 p.m. ET 3/1/22.

Docket Numbers: ER22-1003-000.

Applicants: Southwestern Public Service Company.

Description: § 205(d) Rate Filing: LPL Second Amended PR Agreement to be effective 2/9/2022.

Filed Date: 2/8/22.

Accession Number: 20220208-5087.

Comment Date: 5 p.m. ET 3/1/22.

Take notice that the Commission received the following electric securities filings:

Docket Numbers: ES22-29-000.

Applicants: Consolidated Edison Company of New York, Inc.

Description: Application Under Section 204 of the Federal Power Act for Authorization to Issue Securities of Consolidated Edison of New York Inc.

Filed Date: 2/7/22.

Accession Number: 20220207-5280.

Comment Date: 5 p.m. ET 3/1/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 8, 2022.
Debbie-Anne A. Reese,
Deputy Secretary.

[FR Doc. 2022-03071 Filed 2-11-22; 8:45 am]

BILLING CODE 6717-01-P